DEPARTMENT OF TRANSPORTATION

Research and Special Programs Administration

[Docket 98-4957; Notice]

Extension of Existing Information Collection: Comment Request

AGENCY: Research and Special Programs Administration (RSPA), DOT.

ACTION: Notice and request for public comments and OMB approval.

SUMMARY: This notice requests public participation in the Office of Management and Budget (OMB) approval process regarding an extension of an existing RSPA collection of information. RSPA published its intent to request OMB approval of information collection 2137-0596, National Pipeline Mapping Program under the Paperwork Reduction Act of 1995 and 5 CFR Part 1320 on November 12, 2003 (68 FR 64188-9). No comments were received. The public has an additional opportunity to provide comments.

DATES: Comments on this notice must be received on or before March 8, 2004, to be assured of consideration.

ADDRESSES: Interested persons are invited to send comments directly to: Office of Regulatory Affairs, Office of Management and Budget, 726 Jackson Place, NW., Washington, DC 20503, ATTN: Desk Officer for Department of Transportation. Please identify the docket and notice numbers shown in the heading of this notice.

FOR FURTHER INFORMATION CONTACT: Marvin Fell, (202) 366-6205, to ask questions about this notice; or write by e-mail to marvin.fell@rspa.dot.gov.

SUPPLEMENTARY INFORMATION: Title: National Pipeline Mapping System Program.

Type of Request: Extension of existing information collection.

Abstract: The Department of Transportation (DOT) along with other Federal and state agencies has been working side by side with natural gas and hazardous liquid operators to develop a national pipeline mapping system (NPMS). This system depicts and provides data on the entire United States natural gas transmission and hazardous liquid pipeline system operating in the United States. The Pipeline Safety Improvement Act of 2002, promulgated on December 17, 2002, requires that all transmission pipeline operators provide maps of their pipelines. Additionally, it requires updates when ownership or operation of these lines change.

Estimate of Burden: 1 hour per mile.

Respondents: Gas transmission and hazardous liquid operators.

Estimated Number of Respondents: 900.

Estimated Total Annual Burden on Respondents: 157,112 hours.

This document can be reviewed between 9 a.m. and 5 p.m. Monday through Friday excluding Federal holidays at the Dockets Facility, U.S. Department of Transportation, Room PL-401, 400 Seventh St., SW., Washington, DC 20590.

Comments Are Invited On: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC, on January 30, 2004.
Richard D. Huriaux,
P.E., Manager, Regulations, Office of Pipeline Safety.

[FR Doc. 04-2454 Filed 2-4-04; 8:45 am]

BILLING CODE 4910-60-P